DEPARTMENT OF COMMERCE

International Trade Administration

[A-557-805]

Extruded Rubber Thread From Malaysia: Notice of Extension of Time Limits for Antidumping Duty Administrative Review

AGENCY: Import Administration, International Trade Administration, Department of Commerce.

SUMMARY: The Department of Commerce is extending the time limits of the preliminary results of the antidumping duty administrative review of extruded rubber thread from Malaysia. The review covers three producers/exporters of the subject merchandise to the United States. The period of review is October 1, 1998, through September 30, 1999.

EFFECTIVE DATE: July 14, 2000.

FOR FURTHER INFORMATION CONTACT: Shawn Thompson at (202) 482-1776, or Irina Itkin at (202) 482-0656, Office of AD/CVD Enforcement, Import Administration, International Trade Administration, U.S. Department of Commerce, 14th Street and Constitution Avenue, N.W., Washington, D.C. 20230.

SUPPLEMENTARY INFORMATION: Because it is not practicable to complete this administrative review within the time limits mandated by section 751(a)(3)(A) of Tariff Act of 1930, as amended by the Uruguay Round Agreements Act, the Department is extending the time limit for completion of the preliminary results. In this review, the respondents will not have their audited financial statements ready until after the scheduled date for the preliminary results. Because the Department intends to incorporate the auditors' adjustments into its calculations, we have extended the deadline until October 30, 2000.

This extension is in accordance with section 751(a)(3)(A) of the Act (19 U.S.C. 1675(a)(3)(A)) and 19 CFR 351.213(h)(2).

Dated: June 8, 2000.
Richard W. Moreland,
Deputy Assistant Secretary for Import Administration.

[FR Doc. 00-15052 Filed 6-13-00; 8:45 am]

BILLING CODE 3510-DS-P